DEPARTMENT OF ENERGY

Federal Energy Regulatory Commission

[Project No. 2622-012]

Turners Falls Hydro, LLC; Notice of Intent To File License Application, Filing of Pre-Application Document, Approving use of the Traditional Licensing Process

a. Type of Filing: Notice of Intent To File License Application and Request To Use the Traditional Licensing Process.

b. Project No.: 2622-012.

c. Date Filed: February 26, 2016.

d. Submitted By: Turners Falls Hydro, LLC (Turners Falls Hydro).

e. Name of Project: Turners Falls Hydro Project.

f. Location: On the Connecticut River in Franklin County, Massachusetts. No federal lands are occupied by the project works or located within the project boundary.

g. Filed Pursuant to: 18 CFR 5.3 of the Commission's regulations.

h. Potential Applicant Contact: Peter Clarke, Turners Falls Hydro, LLC, P.O. Box 149, Hamilton, MA 01936; (978) 468-3999.

i. FERC Contact: Bill Connelly at (202) 502-8587; or email at william.connelly@ferc.gov.

j. Turners Falls Hydro filed its request to use the Traditional Licensing Process on February 26, 2016. Turners Falls Hydro provided public notice of its request on March 3 and March 10, 2016. In a letter dated April 22, 2016, the Director of the Division of Hydropower Licensing approved Turners Falls Hydro's request to use the Traditional Licensing Process.

k. With this notice, we are initiating informal consultation with the U.S. Fish and Wildlife Service and NOAA Fisheries under section 7 of the Endangered Species Act and the joint agency regulations there under at 50 CFR part 402 and implementing regulations at 50 CFR 600.920. We are also initiating consultation with the Massachusetts State Historic Preservation Officer, as required by section 106, National Historic Preservation Act, and the implementing regulations of the Advisory Council on Historic Preservation at 36 CFR 800.2.

l. Turners Falls Hydro filed a Pre-Application Document (PAD; including a proposed process plan and schedule) with the Commission, pursuant to 18 CFR 5.6 of the Commission's regulations.

m. A copy of the PAD is available for electronic review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

n. The licensee states its unequivocal intent to submit an application for a new license for Project No. 2622. Pursuant to 18 CFR 16.8, 16.9, and 16.10 each application for a new license and any competing license applications must be filed with the Commission at least 24 months prior to the expiration of the existing license. All applications for license for this project must be filed by February 28, 2019.

o. Register online at http://www.ferc.gov/docs-filing/esubscription.asp to be notified via email of new filing and issuances related to this or other pending projects. For assistance, contact FERC Online Support.

Dated: April 22, 2016.
Kimberly D. Bose,
Secretary.

[FR Doc. 2016-09935 Filed 4-27-16; 8:45 am]

BILLING CODE 6717-01-P